COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) to the Procurement List that will be furnished by nonprofit agencies employing persons who are blind or have other severe disabilities and deletes service(s) previously furnished by such agencies.

DATES: Comments must be received on or before: September 19, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-64041, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s): 7510-00-134-8179—Binder, Awards Certificate, Silver USAF Seal, Blue, 14-½″ × 11″½″.

Designated Source of Supply: Dallas Lighthouse for the Blind, Inc., Dallas, TX.

Mandatory For: Total Government Requirement.

Contracting Activity: FEDERAL ACQUISITION SERVICE, GSA/FAS ADMIN SVCS ACQUISITION BR(2.

Distribution: A-List.

Deletions

The following service(s) are proposed for deletion from the Procurement List:

Service(s)

Service Type: Janitorial/Custodial.

Mandatory for: VA Medical Center: Dental Laboratory, Washington, DC.

Designated Source of Supply: Columbia Lighthouse for the Blind, Washington, DC.

Contracting Activity: VETERANS AFFAIRS, DEPARTMENT OF, NAC.

Service Type: Mailroom Support Services.

Mandatory for: Internal Revenue Service Mailroom: 310 West Wisconsin Avenue, 310 West Wisconsin Avenue, Milwaukee, WI.

Designated Source of Suppl: Industries for the Blind and Visually Impaired, Inc., West Allis, WI.

Contracting Activity: TREASURY, DEPARTMENT OF THE, DEPT OF TREAS/.

Service Type: Mailing Services.

Mandatory for: Government Printing Office: 710 North Capitol & H Street NW, 710 North Capital & H Street, Washington, DC.

Designated Source of Supply: Virginia Industries for the Blind, Charlottesville, VA.

Contracting Activity: Government Printing Office.

Michael R. Jurkowski,
Acting Director, Business Operations.

[FR Doc. 2021-17899 Filed 8-19-21; 8:45 am]

BILLING CODE 6353-01-P